DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Dates: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, 500 C Street, SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | *Existing Elevation in feet (NGVD) +Modified Elevation in feet (NAVD) Modified
City of Sundance, Wyoming
Docket No.: FEMA-B-7460
WY | City of Sundance | Sundance Creek | 1.9 miles downstream of Sundance Pond Confluence of North Fork and South Fork Sundance Creek | +4,584 4,759
|  | North Fork Sundance Creek | Confluence with Sundance Creek 800 feet upstream of West Street Confluence of North Fork Sundance Creek | +4,759 +4,799 +4,759
|  | South Fork Sundance Creek | 350 feet upstream of State Highway 90 | +4,792
#Depth in feet above ground
*National Geodetic Vertical Datum
+North American Vertical Datum
ADDRESSES:
Maps are available for inspection at: City Hall
Send Comments to: The Honorable James Miller, Mayor, City of Sundance, 213 Main Street, Sundance, Wyoming 82729

Flooding source(s) | Location of referenced elevation | *Elevation in feet (NGVD) +Elevation in feet (NAVD) #Depth in feet above ground Modified | Communities affected
Lexington/ Fayette County, Kentucky and Incorporated Areas
Docket No.: FEMA-B-7456
Bryant Tributary | Confluence with North Elkhorn Creek | +942.8 | Lexington/Fayette.
| At I-75 | +984.8
Bowman Mill Tributary | Confluence with South Elkhorn Creek | +890.0 | Lexington/Fayette.
| Approximately 880 feet upstream of Palomar Drive | +940.0
Cave Hill Tributary | Confluence with Bowman Mill Tributary | +901.9 | Lexington/Fayette.
| Approximately 370 feet upstream of the farm road culvert | +940.0
Southpoint Tributary | Confluence with West Hickman Creek | +892.0 | Lexington/Fayette.
| Approximately 2,800 feet upstream of Southpoint Drive | +947.1
Wolf Run Creek | Beacon Hill Road culvert | +921.8 | Lexington/Fayette.
| Approximately 300 feet upstream of Nicholasville Road | +990.9
- Depth in feet above ground
*National Geodetic Vertical Datum
+North American Vertical Datum
ADDRESSES:
Lexington Fayette Urban County Government:
Maps are available for inspection at LFUCG-Division of Planning, 200 East Main Street, 10th Floor, Lexington, KY 40507 or LFUCG-Division of Engineering, 101 East Vine Street, 4th Floor, Lexington, KY 40507
Send comments to the Honorable Teresa Ann Isaac, Mayor, Lexington Fayette Urban County Government, 200 East Main St., Lexington, KY 40507
Philadelphia County, Pennsylvania and Incorporated Areas
Docket No.: FEMA-B-7458
Byberry Creek | Approximately 500 feet downstream from Thornton Road | *88 | City of Philadelphia.
| Approximately 900 feed upstream from Roosevelt Boulevard | *136
Tributary to Poquessing Creek | Approximately 1,280 feet downstream from Whitney Street | *144 | City of Philadelphia.
| Approximately 1,400 feet upstream from SEPTA bridge | *180
#Depth in feet above ground
*National Geodetic Vertical Datum
+North American Vertical Datum
ADDRESSES:
City of Philadelphia:
Maps are available for inspection at Philadelphia City Planning Commission, Philadelphia, PA 19102
Send comments to Mr. William Erickson, City Planner, City of Philadelphia, 1515 Arch Street, 13th Floor, Philadelphia, PA 19102
Laramie County Wyoming, and Incorporated Areas
Docket No.: FEMA-B-7459
Allison Draw | At Confluence with Crow Creek | +5949 | Laramie County (Uninc. Areas).
| At West College Drive | +6017
South Fork Allison Draw | At Confluence with Allison Draw | +5993 | Laramie County (Uninc. Areas).
| At East College Drive | +6000
# Depth in feet above ground
*National Geodetic Vertical Datum
+North American Vertical Datum
ADDRESSES:
Unincorporated Areas of Laramie County:
Maps are available for inspection at Laramie County Planning Department, 310 West 19th Street, Suite 400, Cheyenne, WY 82001.
Send comments to Commissioner Diane Humphrey, Chairman, Board of Commissioners, 310 West 19th Street, Suite 300, Cheyenne, WY 82001.

(Catalog of Federal Domestic Assistance No. 83.100, “Flood Insurance.”)

Dated: October 4, 2006.
David I. Maurstad,
Director, Mitigation Division, Federal Emergency Management Agency, Department of Homeland Security.

[FR Doc. E6-17257 Filed 10-16-06; 8:45 am]

BILLING CODE 9110-12-P